DEPARTMENT OF THE INTERIOR

National Park Service

Notice of Inventory Completion: South Dakota State Historical Society-Archaeological Research Center, Rapid City, SD

AGENCY: National Park Service, Interior.

ACTION: Notice.

Notice is here given in accordance with the Native American Graves Protection and Repatriation Act (NAGPRA), 25 U.S.C. 3003, of the completion of an inventory of human remains and associated funerary objects in the possession of the South Dakota State Historical Society-Archaeological Research Center, Rapid City, SD. The human remains and associated funerary objects were removed from Lawrence County, SD.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by South Dakota State Historical Society- Archaeological Research Center professional staff in consultation with representatives of the Cheyenne Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Nation, Nebraska; and Yankton Sioux Tribe of South Dakota.

In 2007, human remains representing a minimum of one individual were removed from a coffin burial at the Old Deadwood (Ingleside) Cemetery (39LA3000/07-59) in Lawrence County, SD, by personnel from the Archaeological Research Center during improvements to a retaining wall. No known individual was identified. The two associated funerary objects are a coffin and a soil sample.

The manner of burial and historic documentation suggests that the human remains are associated with the Early Historic Period (A.D. 1876-1878). A physical anthropological assessment of the human remains resulted in a determination that the individual is most likely Native American. An evaluation by the South Dakota State Historical Society-Archaeological Research Center professional staff on the manner and location of the burial also supports an identification of the human remains as Native American, and most likely culturally identifiable as Lakota. The Lakota are represented by the Cheyenne Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Nation, Nebraska; and Yankton Sioux Tribe of South Dakota.

Officials of the South Dakota State Historical Society-Archaeological Research Center have determined that, pursuant to 25 U.S.C. 3001 (9-10), the human remains described above represent the physical remains of one individual of Native American ancestry. Officials of the South Dakota State Historical Society-Archaeological Research Center also have determined that, pursuant to 25 U.S.C. 3001 (3)(A), the two objects described above are reasonably believed to have been placed with or near individual human remains at the time of death or later as part of the death rite or ceremony. Lastly, officials of the South Dakota State Historical Society-Archaeological Research Center have determined that, pursuant to 25 U.S.C. 3001 (2), there is a relationship of shared group identity that can be reasonably traced between the Native American human remains and associated funerary objects and the Cheyenne Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Nation, Nebraska; and Yankton Sioux Tribe of South Dakota.

Representatives of any other Indian tribe that believes itself to be culturally affiliated with the human remains and associated funerary objects should contact Rose Estep Fosha, staff archaeologist, South Dakota State Archaeological Research Center, 2425 E. St. Charles, Rapid City, SD 57703, telephone (605) 394-1936, before November 27, 2009. Repatriation of the human remains and associated funerary objects to the Cheyenne Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Nation, Nebraska; and Yankton Sioux Tribe of South Dakota may proceed after that date if no additional claimants come forward.

The South Dakota State Historical Society-Archaeological Research Center is responsible for notifying the Cheyenne Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Nation, Nebraska; and Yankton Sioux Tribe of South Dakota that this notice has been published.

Dated: October 7, 2009
Sherry Hutt,
Manager, National NAGPRA Program.

[FR Doc. E9-25963 Filed 10-27-09; 8:45 am]

BILLING CODE 4312-50-S